NATIONAL SCIENCE FOUNDATION

Advisory Committee for Social, Behavioral, and Economic Sciences; Notice of Meeting

In accordance with the Federal Advisory Committee Act (Pub. L. 92-463, as amended), the National Science Foundation announces the following meeting:

Name: Advisory Committee for Social, Behavioral, and Economic Sciences (1171)

Date/Time: May 31, 2001; 9 a.m.-5 p.m., June 1, 2001; 9 a.m.-12:15 p.m.

Place: NSF, 4201 Wilson Blvd., Rm 1235, Arlington, VA

Type of Meeting: Open.

Contact Person: Dr. Kenneth M. Brown, Executive Secretary; Directorate for Social, Behavioral, and Economic Sciences, NSF, Suite 905; 4201 Wilson Blvd., Arlington, VA 22230. Telephone: (703) 292-8741.

Minutes: May be obtained from the contact person listed above.

Purpose of Meeting: To provide advice and recommendations to the National Science Foundation on major goals and policies pertaining to SBE programs and activities.

Agenda: Discussions on issues, role and future direction of the NSF Directorate for Social, Behavioral and Economic Sciences.

Note: Visitors from outside of NSF should call (703) 292-8700 to arrange for a visitor's badge in order to facilitate getting into the building.

Dated: May 8, 2001.
Susanne Bolton,
Committee Management Officer.

[FR Doc. 01-11919 Filed 5-10-01; 8:45 am]

BILLING CODE 7555-01-M